ENVIRONMENTAL PROTECTION AGENCY

[OPP-2003-0324; FRL-7329-3]

Notice of Receipt of Requests to Cancel Certain Creosote and Acid Copper Chromate Wood Preservative Products, and/or to Terminate Certain Uses of Other Creosote Products

AGENCY: Environmental Protection Agency (EPA).

ACTION: Notice.

SUMMARY: In accordance with section 6(f)(1) of the Federal Insecticide, Fungicide, and Rodenticide Act (FIFRA), as amended, EPA is issuing a notice of receipt of requests by registrants of pesticide products containing either creosote or acid copper chromate (ACC) to voluntarily cancel certain pesticide registrations and/or to amend to terminate certain uses of affected products. Specifically, the five registrants who are members of the Creosote Council III have requested to cancel the registrations for their creosote non-pressure treatment end-use products and/or to amend to terminate all non-pressure treatment uses of other creosote products. These registrants are requesting that these voluntary product cancellations and/or use terminations become effective December 31, 2004. Osmose, Inc., the sole registrant of ACC, is also requesting to immediately cancel the registration for its product with no provision for existing stocks. Neither the registrants of the affected creosote products nor that of the affected ACC product have requested any existing stocks provision. All registrants waived the 180-day comment period.

DATES: Unless a request is withdrawn by October 29, 2003, the Agency intends to issue orders granting these requests to cancel certain products, and to amend to terminate certain uses. The Agency will consider withdrawal requests postmarked no later than October 29, 2003.

FOR FURTHER INFORMATION CONTACT: Bonaventure A. Akinlosotu, Antimicrobials Division (7510C), Office of Pesticide Programs, Environmental Protection Agency, 1200 Pennsylvania Ave., NW., Washington, DC 20460-0001; telephone number: (703) 605-0653; e-mail address: akinlosotu.bonaventure@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0324. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of requests from registrants to cancel the registrations of four pesticide products and to amend to terminate certain uses of seven other pesticide products (See Tables 1 and 2).

In a June 30, 2003 letter, which was received by the Agency on July 14, 2003, Osmose, Inc. requested voluntary cancellation of its ACC product. Similarly, in letters dated September 5, 2003, Coopers Creek Chemical Corporation, KMG-Bernuth, Inc., Koppers, Inc., Railworks Wood Products, and Rutgers Chemicals AG requested voluntary cancellation of certain creosote end-use products and/or amendments to terminate certain creosote end-uses of other creosote end-use products.

Table 1.—Requests for Cancellation of Products
Registration No. | Product Name | Chemical Name
003008-00060 | Osmose ACC 50% Wood Preservative | Chromic acid, Cupric acid
061468-00005 | Coal Tar Creosote | Creosote
073408-00001 | Creosote | Creosote
073408-00002 | Creosote Solution | Creosote

The following creosote/coal tar creosote product uses would be affected by the requests for amendments to terminate non-pressure treatment uses of the products listed in Table 2 below: Home and farm use, ground line treatment of utility poles, end cuts, piling applications/repair, pole framing, and railroad tie uses/repair.

Table 2.—Request for Amendments to Terminate Non-Pressure Treatment Uses
Registration No. | Product Name | Chemical Name
000363-00014 | C-4 Brand Black Creosote Coal Tar Solution | Creosote
000363-00015 | C-4 Brand Coopersote Creosote Oil | Creosote
061468-00006 | Creosote | Creosote
061470-00001 | KMG-B Coal Tar Creosote | Creosote
061483-0007 | Creosote Oil-24CB | Coal tar creosote
061483-0008 | Creosote/Coal Tar Solution | Coal tar creosote
061483-0009 | Creosote Oil | Coal tar creosote

Unless a request is withdrawn by the registrant within 30 days of publication of this notice, the Agency intends to issue orders canceling all of these registrations and granting the amendments affecting the use terminations. Users of these pesticides or anyone else desiring the retention of a registration or particular use should contact the applicable registrant directly before the lapse of this 30-day period.

Table 3 includes the names and addresses of record for all registrants of the products listed in Tables 1 and 2, in ascending sequence by EPA company number:

Table 3.—Registrants Requesting Voluntary Cancellation and/or Amendment to Terminate Uses
EPA Company No. | Company Name and Address
000363 | Coopers Creek Chemical Corp., 884 River Road, West Conshohocken, PA 19428-2699
003008 | Osmose Inc., 980 Ellicott Street, Buffalo, NY 14209-2398
061468 | Koppers Inc., 436 Seventh Avenue, Pittsburgh, PA 15219-1800
061470 | Rutgers Chemicals, 10611 Harwin Drive, Suite 402, Houston, TX 77036-1534
061483 | KMG-Bernuth, Inc., 10611 Harwin Drive, Suite 402, Houston, TX 77036-1534
073408 | Railworks Wood Products, 2525 Prairieton Road, Terre Haute, IN 47802

III. What is the Agency's Authority for Taking this Action?

Section 6(f)(1) of FIFRA provides that a registrant of a pesticide product may at any time request that any of its pesticide registrations be canceled or amended to terminate uses. FIFRA further provides that, before acting on the request, EPA must publish a notice of receipt of any such request in the Federal Register. Thereafter, the Administrator may approve such a request.

IV. Procedures for Withdrawal of Request

Registrants who choose to withdraw a request for voluntary cancellation or amendment to terminate uses must submit such withdrawal in writing to the person listed under FOR FURTHER INFORMATION CONTACT, postmarked no later than October 29, 2003. This written withdrawal of the request for cancellation or amendment to terminate uses will apply only to the applicable FIFRA section 6(f)(1) request listed in this notice. If the product(s) have been subject to a previous cancellation or use termination action, the effective date of cancellation and all other provisions of any earlier cancellation or use termination order are controlling. The withdrawal request must also include a commitment to pay any reregistration fees due, and to fulfill any applicable unsatisfied data requirements.

V. Provisions for Disposition of Existing Stocks

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical. This is in accordance with the Agency's statement of policy as set forth in the Federal Register of June 26, 1991 (56 FR 29362) (FRL-3846-4)

.

Creosote. The registrants of affected creosote products have requested that the voluntary product cancellations and/or use terminations become effective December 31, 2004, with no provision for existing stocks

.

ACC. The effective date of cancellation will be the date of the cancellation order. Osmose stated in its request that its affected product (EPA Reg. No. 3008-60) is no longer being manufactured or distributed by them and that, therefore, there is no need for a time period for the depletion of existing stocks.

List of Subjects

Environmental protection, Creosote, Acid copper chromate, Pesticides and pests.

Dated: September 23, 2003.
Frank Sanders
Director, Antimicrobials Division, Office of Pesticide Programs.

[FR Doc. 03-24560 Filed 9-26-03; 8:45 am]

BILLING CODE 6560-50-S